DEPARTMENT OF TRANSPORTATION

Federal Highway Administration

AGENCY: Federal Highway Administration, Department of Transportation.

ACTION: Correction to notice of intent.

SUMMARY: The Federal Highway Administration (FHWA), in cooperation with the Riverside County Transportation Commission (RCTC) and the California Department of Transportation (Caltrans), is correcting an address for the Notice of Intent (NOI) informing the public that an Environmental Impact Statement (EIS) will be prepared for the proposed Mid County Parkway (MCP) project. The original NOI was published on November 22, 2004, (Volume 69, Number 224, Pages 68002-68003). The EIS will study alternatives to implement the proposed Mid County Parkway project in western Riverside County between Interstate 15 (I-15) to the west and State Route 79 (SR 79) to the east. The original NOI contained an outdated address. The correct address is identified below under contacts.

FOR FURTHER INFORMATION CONTACT: Tay Dam, Senior Transportation Engineer, Federal Highway Administration—Los Angeles Metro Office, 888 S. Figueroa Street, Suite 1850, Los Angeles, California 90017. Telephone: (213) 202-3954. Fax: (213) 202-3961 or Cathy Bechtel, Riverside County Transportation Commission, 4080 Lemon Street, 3rd Floor, PO Box 12008, Riverside, CA 92502-2208. Telephone: (951) 787-7141. Fax: (951) 787-7920.

Issued on December 8, 2004.
Maiser Khaled,
Director, Project Development & Environmental, California Division, Federal Highway Administration.

[FR Doc. 04-27318 Filed 12-3-04; 8:45 am]

BILLING CODE 4910-22-M